FEDERAL MEDIATION AND CONCILIATION SERVICE

Senior Executive Service Performance Review Board

AGENCY: Office of the Director (OD), Federal Mediation and Conciliation Service (FMCS).

ACTION: Notice.

SUMMARY: Notice is hereby given of the names of the members of the Agency's SES Performance Review Board.

FOR FURTHER INFORMATION CONTACT: Sarah Cudahy, General Counsel 202-606-8090, scudahy@fmcs.gov, 250 E St. SW, Washington, DC 20427.

SUPPLEMENTARY INFORMATION: Sec. 4314(c)(1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

Dated: August 26, 2020.
Sarah Cudahy,
General Counsel.

The Members of the Performance Review Board Are:

1. Marla Hendriksson, Deputy Director for the Office of Partnership and Operational Policy, Office of Regulatory Affairs, Food and Drug Administration, Department of Health and Human Services

2. Priscilla Clark, Deputy Chief Human Capital Officer, Office of the Chief Human Capital Officer, Housing and Urban Development

3. Gregory Goldstein, Chief Operating Officer, Federal Mediation and Conciliation Service

4. Angie Titcombe, Director of Human Resources, Federal Mediation and Conciliation Services

[FR Doc. 2020-19097 Filed 8-28-20; 8:45 am]

BILLING CODE 6732-01-P